DEPARTMENT OF THE TREASURY

Internal Revenue Service

26 CFR Part 1

[TD 9992]

RIN 1545-BQ36

Guidance on the Definition of Domestically Controlled Qualified Investment Entities; Correction

AGENCY: Internal Revenue Service (IRS), Treasury.

ACTION: Final rule; correcting amendment.

SUMMARY: This document contains corrections to Treasury Decision 9992, which was published in the Federal Register for Thursday, April 25, 2024. Treasury Decision 9992 issued final regulations that address the determination of whether a qualified investment entity is domestically controlled, including the treatment of qualified foreign pension funds for this purpose.

DATES: These corrections are effective on December 27, 2024 and for dates of applicability see §§ 1.897-1(a)(2) and 1.1445-2(e).

FOR FURTHER INFORMATION CONTACT: Concerning these final regulations, Milton Cahn at (202) 317-4934 (not a toll-free number).

SUPPLEMENTARY INFORMATION:

Background

The final regulations (TD 9992) that are the subject of this correction are under section 897 of the Code.

Corrections to the Regulations

Accordingly, 26 CFR part 1 is corrected by making the following correcting amendment:

List of Subjects in 26 CFR Part 1

Income taxes, Reporting and recordkeeping requirements.

Paragraph 1. The authority citation for part 1 continues to read in part as follows:

Authority: 26 U.S.C. 7805 * * *

§ 1.897-1 [Amended]

Par. 2. Section 1.897-1 is amended in paragraph (c)(3)(vi)(E) by removing the language “property interest, or” and adding the language “property interest or” in its place.

Oluwafunmilayo A. Taylor,
Section Chief, Publications and Regulations Section, Associate Chief Counsel, (Procedure and Administration).

[FR Doc. 2024-30928 Filed 12-26-24; 8:45 am]

BILLING CODE 4830-01-P